DEPARTMENT OF LABOR

Occupational Safety and Health Administration

[Docket No. ICR-1218-0170(2006)]

Standard on 1,3-Butadiene; Extension of the Office of Management and Budget's Approval of Information Collection Requirements

AGENCY: Occupational Safety and Health Administration (OSHA), Labor.

ACTION: Request for public comment.

SUMMARY: OSHA solicits public comment concerning its request for an extension of the information collection (paperwork) requirements contained in the 1,3-Butadiene Standard (29 CFR 1910.1051).

DATES: Comments must be submitted by the following dates:

Hard copy: You comments must be submitted (postmarked or received) by April 25, 2006.

Facsimile and electronic transmission: Your comments must be received by April 25, 2006.

ADDRESSES: You may submit comments, identified by OSHA Docket No. ICR-1218-0170(2006), by any of the following methods.

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 or fewer pages, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Todd Owen at the address below to obtain a copy of the ICR. (For additional information on submitting comments, please see the “Public Participation” heading in the SUPPLEMENTARY INFORMATION section of this document.)

FOR FURTHER INFORMATION CONTACT: Jamaa Hill, Directorate of Standards and Guidance, OSHA, Room N-3609, U.S. Department of Labor, 200 Constitution Avenue, NW., Washington, DC 20210, telephone: (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the OSHA Act) (29 U.S.C. 651 et seq.) authorizes information collection by employers as necessary or appropriate for enforcement of the OSH Act or for developing information regarding the causes and prevention of occupational injuries, illnesses, and accidents (29 U.S.C. 657). In this regard, the 1,3-Butadiene Standard requires employers to monitor employee exposure to 1,3-Butadiene; development and maintain compliance and exposure-goal programs if employee exposures to 1,3-Butadiene are above the Standard's permissable exposure limits or action level; label respirator filter elements to indicate the date and time it is first installed on the respirator; establish medical surveillance programs to monitor employee health, and to provide employees with information about their exposures and the health effects of exposure to 1,3-Butadiene.

II. Special Issues for Comment

OSHA has a particular interest in comments on the following issues:

• Whether the proposed information collection requirements are necessary for the proper performance of the Agency's functions, including whether the information will have practical utility;

• The accuracy of OSHA's estimate of the burden (time and costs) of the information collection requirements, including the validity of the methodology and assumptions used;

• The quality, utility, and clarity of the information collected; and

• Ways to minimize the burden on employers who are to respond, including the use of appropriate automated, electronic, mechanical or other technological collection techniques or other forms of information technology, e.g., permitting electronic submission of responses.

III. Proposed Actions

OSHA is requesting OMB to extend their approval of the information collection requirements contained in the 1,3 Butadiene Standard. OSHA will summarize the comments submitted in response to this notice, and will include this summary in it's request to OMB.

Type of Review: Extension of currently approved information collection requirements.

Title: 1,3 Butadiene Standard (29 CFR 1910.1051).

OMB Number: 1218-0170.

Affected Public: Business or other for-profits; Federal government; State, local and tribal governments.

Number of Respondents: 115.

Frequency: On occasion.

Total Responses: 3,532.

Average Time per Response: Time per response ranges from 15 seconds (.004 hour) to write the date and time on each new cartridge label to 2 hours to complete a referral medical examination.

Estimated Total Burden Hours: 955.

Estimated Cost (Operation and Maintenance): $90,552.

IV. Public Participation—Submission of Comments on This Notice and Internet Access to Comments and Submissions

You may submit comments and supporting materials in response to this notice by (1) hard copy, (2) FAX transmission (facsimile), or (3) electronically through the OSHA Web page. Because of security-related problems, there may be a significant delay in the receipt of comments sent by regular mail. Please contact the OSHA Docket Office at (202) 693-2350 (TTY (877) 889-5627) for information about security procedures concerning the delivery of submissions by express delivery, hand delivery and courier service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page. Because submissions become public, private information such as social security numbers should not be submitted.

V. Authority and Signature

Jonathan L. Snare, Acting Assistant Secretary of Labor for Occupational Safety and Health, directed the preparation of this notice. The authority for this notice is the Paperwork Reduction act of 1995 (44 U.S.C. et seq.), and Secretary of Labor's Order No. 5-2002 (67 FR 65008).

Signed at Washington, DC, on February 21, 2006.
Jonathan L. Snare,
Acting Assistant Secretary of Labor.

[FR Doc. 06-1747 Filed 2-23-06; 8:45 am]

BILLING CODE 4510-26-M